POSTAL SERVICE

39 CFR Part 111

Eligibility Requirements for Attachments and Enclosures With Bound Printed Matter

AGENCY: Postal Service.

ACTION: Final rule.

SUMMARY: This final rule revises the Domestic Mail Manual (DMM) to implement changes to the standards governing permissible attachments and enclosures with Bound Printed Matter.

EFFECTIVE DATE: June 14, 2001.

FOR FURTHER INFORMATION CONTACT: Jerome M. Lease, 703-292-4184.

SUPPLEMENTARY INFORMATION: On March 26, 2001, the Postal Service published a proposed rule in the Federal Register (66 FR 16431) soliciting comments concerning the standards in the Domestic Mail Manual (DMM) governing permissible attachments and enclosures with Bound Printed Matter (BPM) eligible to be mailed at BPM rates.

Under current postal standards, the only attachments and enclosures authorized to be mailed with qualifying Bound Printed Matter at BPM rates are printed matter mailable as Standard Mail and merchandise samples meeting prescribed conditions. The proposed change would rescind the provision concerning merchandise samples. In its place, the Postal Service proposed the inclusion of “nonprint” attachments and enclosures so long as the amount of the attachments and enclosures is relatively modest compared to the amount of qualifying Bound Printed Matter and each has minimal value. In each case, objective standards were proposed for application of the tests. That is, the proposed rule allows for the inclusion of nonprint attachments and enclosures so long as the combined weight of all nonprint attachments and enclosures in the mailpiece is less than or equal to 25 percent of the weight of the Bound Printed Matter in the mailpiece. In addition, the individual cost of each nonprint attachment or enclosure must be less than or equal to the cost of a “low-cost” item as defined in DMM E670.5.11, and the combined cost of all nonprint attachments and enclosures may not exceed two times the cost of a low-cost item as defined in DMM E670.5.11. The “low-cost” amount for calendar year 2001 is $7.60 and this amount is adjusted for inflation annually by the Internal Revenue Service. For purposes of this test, “cost” is the actual cost to the mailer for the item, rather than the price for which it sells the item, represented value, market value, or other amount.

In sum, some of the nonprint attachments and enclosures permitted with Bound Printed Matter under the current standard would also be permissible under the new standard, while some of these attachments and enclosures would not be permitted under the new standard. In addition, some matter not permitted as attachments and enclosures under the current standard would be permissible under the new standard.

The Postal Service received 23 comments in response to the proposal. Twenty-two comments supported the proposal to replace the current standard with an objective standard based on the weight and value of attachments and enclosures. A number of these comments stated that the objective standards would be easier for mailers and postal personnel to understand and use, and thus would facilitate the preparation of mailings and acceptance of mail. Some comments also noted that efforts to revise standards in this manner are appropriate in view of the changes taking place in the publishing industry. Of the 22 favorable comments, 18 fully supported the proposed weight and value standards. Three commenters requested that the weight limit on nonprint attachments and enclosures be increased from 25 percent to 50 percent and one commenter requested that the limit be increased from 25 percent to 49 percent.

The Postal Service has given consideration to these requests to increase the weight of nonprint attachments and enclosures. However, the Postal Service is mindful that Bound Printed Matter rates are intended for printed matter. This is not to say that a modest amount of nonprint attachments and enclosures should be prohibited, and indeed some nonprint matter has been permitted under current standards. The Postal Service is concerned that either of these higher ratios proposed by commenters would serve to cloud the distinction between bona fide Bound Printed Matter and other Package Services mail, such as Parcel Post, or Standard Mail. Therefore, neither of the suggested higher weight limits is adopted in this final rule.

Of the comments supporting the proposed standards, five comments sought a specific ruling concerning “binders” as bona fide elements of Bound Printed Matter. These requests are beyond the scope of this rulemaking and are not addressed in this final rule.

The remaining comment, although taking “no position on the merits of the proposed change,” suggested that the proposal would expand the permissible attachments and enclosures beyond those contemplated in the Domestic Mail Classification Schedule (DMCS), and would be beyond the authority of the Postal Service to adopt. The Postal Service respectfully disagrees. Under DMCS 544.2, Bound Printed Matter may contain attachments and enclosures “as specified by the Postal Service.” The comment appears to suggest that this discretion is limited by the additional phrase “and as described in subsections a and e of section 523.1,” which concerns order forms with books and sound recordings. Under the reading apparently favored by the commenter, the permissible attachments and enclosures under DMCS 544.2 would be limited to these order forms in accordance with standards prescribed by the Postal Service. In contrast, the Postal Service believes that the two parts of section 544.2 should be read independently. That is, the permissible attachments and enclosures include the order forms described in 523.1, and, in addition to that, any other attachment and enclosure specified by the Postal Service. Nevertheless, the Postal Service agrees with the commenter that the permissible attachments and enclosures should not be without limits. Indeed, as explained above, the Postal Service believes that the amount of nonprint attachments and enclosures should be relatively small in comparison to the qualifying Bound Printed Matter, and rejected requests that the ratio be increased beyond the standard proposed.

After full consideration of the comments received and for the reasons discussed above, the Postal Service adopts, without revisions, the proposed changes in the Domestic Mail Manual, which is incorporated by reference in the Code of Federal Regulations (see 39 CFR part 111).

List of Subjects in 39 CFR Part 111

Administrative practice and procedure, Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Revise Domestic Mail Manual E712.1.2, as follows:

Domestic Mail Manual

* * * * *

E ELIGIBILITY

* * * * *

E712 Bound Printed Matter

* * * * *

1.0 BASIC STANDARDS

* * * * *

1.2 Enclosures and Attachments

(Revise 1.2 to add new standards for attachments and enclosures as follows:)

In addition to the basic standards in E710, BPM may have the following attachments and enclosures:

a. Any printed matter mailable as Standard Mail.

b. Nonprint attachments and enclosures. The combined weight of all nonprint attachments and enclosures in the mailpiece must be less than or equal to 25 percent of the weight of the Bound Printed Matter in the mailpiece. The individual cost of each nonprint attachment or enclosure must be less than or equal to the cost of a “low cost” item as defined in E670.5.11. In addition, the combined cost of all nonprint attachments and enclosures must not exceed two times the cost of a “low cost” item as defined in E670.5.11.

* * * * *

This change will be published in a future issue of the Domestic Mail Manual. An appropriate amendment to 39 CFR 111.3 to reflect these changes will be published.

Stanley F. Mires,
Chief Counsel, Legislative.

[FR Doc. 01-13973 Filed 6-4-01; 8:45 am]

BILLING CODE 7710-12-U